DEPARTMENT OF THE INTERIOR

Bureau of Land Management

[CO-134-1610-DQ]

Notice of Call for Nominations for the Colorado Canyons National Conservation Area Advisory Council

AGENCY: Bureau of Land Management, Interior.

ACTION: Notice.

SUMMARY: The Bureau of Land Management (BLM) is requesting nominations for four unfilled membership positions on the Colorado Canyons National Conservation Area Advisory Council. The Council advises the Secretary and the BLM on resource management issues associated with the Colorado Canyons National Conservation Area and Black Ridge Canyons Wilderness.

DATES: Submit a completed nomination form and nomination letters to the address listed below no later than October 1,2004.

ADDRESSES: Send completed nominations to: Colorado Canyons National Conservation Area Manager, Grand Junction Field Office, Bureau of Land Management, 2815 H Road, Grand Junction, CO 81506.

FOR FURTHER INFORMATION CONTACT: Raul Morales, Grand Junction Associate Field Manager, (970) 244-3066, raul_morales@co.blm.gov, or visit the Web site at http://www.co.blm.gov/colocanyons/index.htm.

SUPPLEMENTARY INFORMATION: Any individual or organization may nominate one or more persons to serve on the Colorado Canyons National Conservation Area Advisory Council. Individuals may nominate themselves for Council membership. You may obtain nomination forms from the Grand Junction Field Office, BLM or download the application from the Internet site (see ADDRESSES and FOR FURTHER INFORMATION CONTACT, above). To make a nomination, you must submit a completed nomination form, letters of reference from the represented interests or organizations, as well as any other information that speaks to the nominee's qualifications, to the Grand Junction Field Office. You may make nominations for the following categories of interest:

(1) A member of, or nominated by, the Mesa County Board of County Commissioners.

(2) A member of, or nominated by, the Northwest Colorado Resource Advisory Council.

(3) Two members residing in, or within reasonable proximity to, Mesa County, Colorado, with recognized backgrounds reflecting—

(A) The purposes for which the National Conservation Area or Wilderness was established; and

(B) The interests of the stakeholders that are affected by the planning and management of the National Conservation Area and Wilderness. The specific category the nominee would like to represent should be identified in the letter of nomination and on the nomination form. The Grand Junction Field Office will collect the nomination forms and letters of reference and distribute them to the officials responsible for reviewing and recommending nominations (commissioners of Mesa County, the Northwest Colorado Resource Advisory Council, and the BLM). The BLM will then forward recommended nominations to the Secretary of the Interior who has responsibility for making the appointments.

The purpose of the Colorado Canyons National Conservation Area Advisory Council is to advise the BLM on the management of the Colorado Canyons National Conservation Area and Black Ridge Canyons Wilderness. Each member will be a person who, as a result of training and experience, has knowledge or special expertise which qualifies him or her to provide advice from among the categories of interest listed above. Members will serve without monetary compensation, but will be reimbursed for travel and per diem expenses at current rates for Government employees.

Raul Morales,
Manager, Colorado Canyons National Conservation Area.

[FR Doc. 04-19917 Filed 8-31-04; 8:45 am]

BILLING CODE 4310-GG-P